DEPARTMENT OF AGRICULTURE

Forest Service

Eastern Arizona Counties Resource Advisory Committee

AGENCY: Forest Service, USDA.

ACTION: Notice of meeting.

SUMMARY: The Eastern Arizona Counties Resource Advisory Committee will meet in Payson, Arizona. The purpose of the meeting is to review and approve projects for funding and approve evaluation criteria for the projects.

DATES: The meeting will be held March 28, 2003, at 1 p.m. An alternate date of April 11, 2003, will be used if weather precludes meeting on March 28th.

ADDRESSES: The meeting will be held at the Gila County Community College, Community Room, at 201 Mud Springs Road, Payson, Arizona. Send written comments to Robert Dyson, Eastern Arizona Counties Resource Advisory Committee, c/o Forest Service, USDA, P.O. Box 640, Springerville, Arizona 85938 or electronically to rdyson@fs.fed.us.

FOR FURTHER INFORMATION CONTACT: Robert Dyson, Public Affairs Officer, Apache-Sitgreaves National Forests, (928) 333-4301.

SUPPLEMENTARY INFORMATION: The meeting is open to the public. Committee discussion is limited to Forest Service staff and Committee members. However, persons who wish to bring Pub. L. 106-393 related matters to the attention of the Committee may file written statements with the Committee staff three weeks before the meeting. Opportunity for public input will be provided.

Dated: March 17, 2003.
John C. Bedell,
Forest Supervisor, Apache-Sitgreaves National Forests.

[FR Doc. 03-6880 Filed 3-20-03; 8:45 am]

BILLING CODE 3410-11-M